DEPARTMENT OF COMMERCE

National Oceanic and Atmospheric Administration

50 CFR Part 648

[Docket No. 151006928-6899-01]

RIN 0648-BF43

Fisheries of the Northeastern United States; Jonah Crab Fishery; Advance Notice of Proposed Rulemaking and Notice of Intent To Prepare an Environmental Impact Statement; Scoping Process

AGENCY: National Marine Fisheries Service (NMFS), National Oceanic and Atmospheric Administration (NOAA), Commerce.

ACTION: Advance notice of proposed rulemaking; request for comments.

SUMMARY: Based on Atlantic States Marine Fisheries Commission recommendations, we are issuing this advance notice of proposed rulemaking announcing our intent to develop regulations in support of an Interstate Fishery Management Plan for Jonah crab. The advance notice of proposed rulemaking is necessary to provide the public with background information and to alert interested parties of future regulations governing Jonah crab fishing in Federal waters of the Exclusive Economic Zone. We are also announcing our intent to prepare an Environmental Impact Statement in accordance with the National Environmental Policy Act. This notice is to alert the interested public of the scoping process and potential development of a draft Environmental Impact Statement, and to outline opportunity for public participation in that process.

DATES: Written and electronic comments must be received on or before November 14, 2016.

ADDRESSES: You may submit comments on the Jonah Crab Plan, identified by NOAA-NMFS-2015-0127, by either of the following methods:

• Electronic Submission: Submit all electronic public comments via the Federal e-Rulemaking Portal. Go to www.regulations.gov/#!docketDetail;D=NOAA-NMFS-2015-0127, click the “Comment Now!” icon, complete the required fields, and enter or attach your comments.

• Mail: Submit written comments to John K. Bullard, Regional Administrator, NMFS, Greater Atlantic Regional Fisheries Office, 55 Great Republic Drive, Gloucester, MA 01930. Mark the outside of the envelope: “Comments on Jonah Crab Plan.”

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Requests for copies of the Commission's Jonah Crab Plan should be directed to Robert Beal, Executive Director, Atlantic States Marine Fisheries Commission, 1050 N. Highland St, Suite A-N, Arlington, VA 22201. It is also available electronically at: http://www.asmfc.org/uploads/file/55e9daffJonahCrabInterstateFMP_Aug2015.pdf.

Requests for copies of the scoping document and other information should be directed to Allison Murphy, Fishery Policy Analyst, NOAA Fisheries, Greater Atlantic Regional Fisheries Office, 55 Great Republic Drive, Gloucester, MA 01930, telephone (978) 281-9122. The scoping document will be available electronically at: http://www.greateratlantic.fisheries.noaa.gov/.

FOR FURTHER INFORMATION CONTACT: Allison Murphy, Fishery Policy Analyst, NMFS, allison.murphy@noaa.gov, telephone (978) 281-9122.

SUPPLEMENTARY INFORMATION:

Background

Jonah crab (Cancer borealis), also known as rock crab, is not currently managed under Federal regulations. The Atlantic States Marine Fisheries Commission's Lobster Board, working through its public meeting process, approved an Interstate Fishery Management Plan for Jonah Crab in August 2015. The goal of the plan is to promote conservation, reduce the possibility of recruitment failure, and allow the industry to continue fishing the resource at present levels. The Commission's Jonah Crab Plan includes commercial and recreational measures, and reporting requirements, summarized in Table 1, below.

Table 1—Commission-Recommended Jonah Crab Management Measures
| Description
Commercial Management Measure
Permits | Limits participation in the directed trap fishery to only those vessels and permit holders that already hold a lobster permit, or can prove prior participation in the crab fishery before the June 2, 2015, control date.
Minimum Size | 4¾ inches (12.065 cm).
Landing Disposition | Whole crab fishery, with an exception for New Jersey, Maryland, Delaware, and Virginia harvesters who can demonstrate history in the claw-only fishery.*
Broodstock Protection | Prohibition on the retention of egg-bearing females.
Incidental Catch Limit | 1,000 crabs/trip for non-lobster trap and non-trap gear.
Recreational Management Measures
Possession Limit | 50 whole crabs/person per day.
Broodstock Protection | Prohibition on the retention of egg-bearing females.
Reporting Requirements
Dealer Reporting | 100-percent dealer reporting.
Harvester Reporting | 100-percent harvester reporting, but allows jurisdictions that currently require less than 100 percent of lobster harvesters to report are required to maintain its current reporting programs and extend them to Jonah crab.
* The Commission is considering a coastwide claw-only fishery as part of Addendum II.

Anticipating that the approved Jonah Crab Plan would include permitting requirements, the Commission requested that we issue a control date for the Jonah crab fishery. We published a notice (80 FR 31347; June 2, 2015) establishing June 2, 2015, as the control date. The notice advised Jonah crab harvesters to locate and preserve records. It also notified harvesters that landings after the control date may not be treated the same as landings that occurred prior to the control date.

The Board recommended allowing any lobster permit holder to continue to fish for and retain Jonah crabs. The Board also recommended allowing access for historic crab-only harvesters to continue to fish for and retain Jonah crabs. The Board has not yet developed qualification criteria for historic crab-only harvesters in the Jonah Crab Plan. While the Board's Plan Development Team has investigated Jonah crab-only landings, it has not been able to investigate Jonah crab-only harvesters with substantial landings. We will work with the Commission and state partners through the development of these recommendations.

In the Jonah Crab FMP, the Lobster Board recommended an incidental catch limit of 200 crabs/day, up to 500 crabs/trip. After the FMP was approved, the Board became aware that the approved limit might restrict some historical fishing practices, which was not intended. In November 2015, the Board initiated Addendum I to reconsider the incidental catch limit. At its May 2016 meeting, the Lobster Board finalized Addendum I by selecting an incidental catch limit of 1,000 crabs for a trip of any length for both non-trap and non-lobster trap gear.

In May 2016, the Lobster Board initiated Addendum II to further develop claw-only fishery requirements. Although draft Addendum II has not yet been released for public comment, we expect it to contain alternatives that would allow a coastwide claw-only fishery, as well as an alternative that would restrict Jonah crab landings to only whole crabs (i.e., prohibit landing claws). We expect the draft addendum to be discussed in October 2016, and revised claw-only fishery requirements to be selected by the Lobster Board in February 2017, following public comment.

States were required to implement Jonah Crab Plan requirements by June 1, 2016. In September, 2015, the Commission formally requested that we issue complementary regulations in Federal waters. We are reviewing the Commission's Jonah Crab Plan, available data, and are considering implementing complementary measures in Federal waters. We are seeking public comment on the Commission's recommended measures, as well as soliciting input on any additional alternatives that we should consider for managing the Federal Jonah crab fishery.

Public Comment

We are soliciting written comments to help us determine the scope of issues to be addressed by potential Federal regulations in support of the Jonah Crab Plan, as well as to identify significant issues for inclusion in the Environmental Impact Statement. We are particularly interested in comment on the Commission's recommended measures outlined in Table 1, including potential criterial for a possible limited access directed fishery. We are also interested in comment on the nature and extent of a possible claw-only fishery which may be revised in Addendum II. Scoping consists of identifying the range of actions, alternatives, and impacts to be considered. After the scoping process is completed, we will begin development of Federal regulations and may prepare an Environmental Impact Statement to analyze the impacts of the range of alternatives under consideration. Impacts may be direct, indirect, or cumulative.

In addition to having the opportunity to comment on this notice, the public will have the opportunity to comment on the measures and alternatives being considered through the public comment period and a public meeting, consistent with National Environmental Policy Act and the Administrative Procedure Act. We have scheduled a scoping webinar for October 20, 2016 at 5:00 p.m. during which we will take and discuss scoping comments on future Jonah crab regulations. Please use the link and call in information provided below:

• Webinar: https://noaaevents.webex.com/noaaevents/onstage/g.php?MTID=ed272b501b73da9f75dff6eb36ca49229,

• Webinar access code: Meeting123,

• Telephone Number: 877-661-2084,

• Participant Code: 613780.

Authority: 16 U.S.C. 1801 et seq.

Dated: October 6, 2016.
Samuel D. Rauch III,
Deputy Assistant Administrator for Regulatory Programs, National Marine Fisheries Service.

[FR Doc. 2016-24746 Filed 10-12-16; 8:45 am]

BILLING CODE 3510-22-P